DEPARTMENT OF ENERGY

Office of Energy Efficiency and Renewable Energy

State Energy Program Special Projects Financial Assistance

AGENCY: Department of Energy, Office of Energy Efficiency and Renewable Energy.

ACTION: Notice for 2001 State Energy Program Special Projects.

SUMMARY: As options offered under the State Energy Program (SEP) for fiscal year 2001, the Office of Energy Efficiency and Renewable Energy is announcing the availability of financial assistance to States for a group of special project activities. Funding is being provided by a number of end-use sector programs in the Office of Energy Efficiency and Renewable Energy. States may apply to undertake any of the projects being offered by these programs. Financial assistance will be awarded to the States separately for each special project, with the activities to be carried out in conjunction with their efforts under SEP. The special projects funding and activities are tracked separately so that the end-use sector programs may follow the progress of their projects.

The projects must meet the relevant requirements of the program providing the funding, as well as of SEP, as specified in the 2001 Special Projects Announcement. Among the goals of the special projects activities are to assist States to: accelerate deployment of energy efficiency and renewable energy technologies; facilitate the acceptance of emerging and underutilized energy efficiency and renewable energy technologies; and increase the responsiveness of Federally funded technology development efforts to private sector needs.

DATES: The program announcement will be available on November 6, 2000. Applications must be received by February 23, 2001.

ADDRESSES: Complete information about this program, including phone numbers for the State SEP offices and a question and answer forum, is available at the following website: http://www.eren.doe.gov/buildings/state_energy/fy01/sepsp01-forum. Otherwise, for referral to the appropriate DOE Regional Office or State Office, you may contact Mr. Thomas Stapp at the U.S. Department of Energy Headquarters, 1000 Independence Avenue, S.W., Washington, D.C. 20585, (202) 586-2096.

SUPPLEMENTARY INFORMATION: Fiscal year 2001 is the sixth year special project activities have been funded in conjunction with the State Energy Program (10 CFR part 420). Most of these State-oriented special projects are related to or based on similar efforts that have been funded separately by the various DOE end-use sector programs that are now providing funding for these optional SEP activities.

Availability of Fiscal Year 2001 Funds

With this publication, DOE is announcing the availability of an estimated $14.8 million in financial assistance funds for fiscal year 2001. The awards will be made though a competitive process. The end-use sector programs that are participating in the SEP Special Projects for fiscal year 2001, with the estimated amount of funding available for each, are as follows:

• Clean Cities/Alternative Fuels: Accelerating the introduction and increasing the use of alternative fuels and alternative fuel vehicles through the development of infrastructure, niche markets, and clean corridors, and by promoting the use of advanced transportation technologies ($3,800,000).

• Industrial Technologies: Implementing Industries of the Future at the State level by building partnerships among State government agencies, industry, universities and research institutions: to develop new technologies tied to Industries of the Future road maps and visions; and to utilize best practices which can improve energy efficiency, environmental performance and productivity ($2,800,000).

• Codes and Standards: Supporting States' actions to update, implement, and enforce residential and commercial building energy codes ($4,200,000).

• Rebuild America: Helping community and regional partnerships improve commercial and multifamily building energy efficiency ($1,200,000).

• Building America: Applying systems engineering approaches to the development of advanced residential buildings, including production techniques, products and technologies that result in higher quality, energy efficient housing ($300,000).

• Energy and Environment Integration: Encouraging State-wide pilot projects with specific environmental benefits ($500,000).

• Federal Energy Management Program: Developing Federal/State partnerships to increase technical capability and funding for energy efficiency, renewable energy, and water conservation measures for Federal buildings ($400,000).

• Hydrogen Reformer Field Verification: Siting and operating small advanced hydrogen reformer systems to better understand and document the performance, maintenance, operation and economic viability of these systems ($500,000).

• Geothermal Energy Resource Assessments: Identifying potential areas or sites for geothermal power development in a State or region in the West (DOE Denver and Seattle Regional Office areas only) ($200,000).

• Biomass Power Projects: Recovering and using biogas for energy and other applications by assessing the feasibility of site-specific projects or implementing actual site-specific projects ($300,000).

• Brightfields—Redeveloping Brownfields with Solar Energy: Deploying solar energy technologies onto brownfields or landfill sites through solar arrays on the site; solar technologies integrated into buildings on the site; or a solar energy related business locating on the site ($100,000).

• Wind Energy Case Studies: Performing case studies documenting the benefits and costs of deployment of 25 to 50 megawatt state of the art wind turbines ($200,000).

• Distributed Energy Resources: Performing studies on cooling, heating and power applications and on streamlining siting and permitting, and analyses on constraints and placement of distributed technologies to support load ($300,000).

Restricted Eligibility

Eligible applicants for purposes of funding under this program are limited to the 50 States, the District of Columbia, Puerto Rico, and any territory or possession of the United States, specifically, the State energy or other agency responsible for administering the State Energy Program pursuant to 10 CFR part 420. For convenience, the term State in this notice refers to all eligible State applicants.

The Catalog of Federal Domestic Assistance number assigned to the State Energy Program Special Projects is 81.119.

Requirements for cost sharing contributions will be addressed in the program announcement for each special project activity, as appropriate. Cost sharing contributions beyond any required percentage are desirable.

Any application must be signed by an authorized State official, in accordance with the program announcement.

Evaluation Review and Criteria

A first tier review for completeness will occur at the appropriate DOE Regional Office. Applications found to be complete will undergo a merit review process by panels comprised of members representing the participating end-use sector programs in DOE's Office of Energy Efficiency and Renewable Energy. The end-use sector offices select projects for funding. The Office of Building Technology Assistance then recommends project allocations to the Assistant Secretary for Energy Efficiency and Renewable Energy for final determination. DOE reserves the right to fund, in whole or in part, any, all or none of the applications submitted in response to this notice.

Issued in Washington, D.C., on November 6, 2000.
Dan W. Reicher,
Assistant Secretary, Energy Efficiency and Renewable Energy.

[FR Doc. 00-28843 Filed 11-8-00; 8:45 am]

BILLING CODE 6450-01-P